DEPARTMENT OF HEALTH AND HUMAN SERVICES

Food and Drug Administration

21 CFR Part 14

[Docket No. FDA-2025-N-2427]

Advisory Committee; Arthritis Advisory Committee; Termination; Removal From List of Standing Committees

AGENCY: Food and Drug Administration, HHS.

ACTION: Final rule.

SUMMARY: The Food and Drug Administration (FDA or the Agency) is announcing the termination of the Arthritis Advisory Committee (Committee). Due to that termination, this final rule removes the Committee from the Agency's list of standing advisory committees in 21 CFR 14.100.

DATES: This rule is effective August 29, 2025.

FOR FURTHER INFORMATION CONTACT: Emily Helms Williams, Director, Advisory Committee Oversight and Management Staff, Office of the Chief Scientist, Food and Drug Administration, 10903 New Hampshire Ave., Bldg. 1, Silver Spring, MD 20993-0002, 301-796-3381, Emily.HelmsWilliams@fda.hhs.gov.

SUPPLEMENTARY INFORMATION: The Arthritis Advisory Committee was established on April 5, 1974 (39 FR 14737), to advise the Commissioner of Food and Drugs or designee in discharging responsibilities as they relate to helping to ensure safe and effective drugs for human use in arthritic conditions, and as required, any other product for which FDA has regulatory responsibility.

This Committee has met infrequently in recent years, and FDA has determined that the effort and expense of maintaining the Committee is no longer justified. The Committee was terminated on July 30, 2025 (90 FR 35876). Therefore, the Agency is amending 21 CFR 14.100 to remove the Committee's name and function from its current list of standing advisory committees, as set forth in the regulatory text of this document.

Under 5 U.S.C. 553(b)(4)(B) and (d) and 21 CFR 10.40(d) and (e), the Agency finds good cause to dispense with notice and public comment procedures and to proceed to an immediate effective date on this rule.

Notice and public comment and a delayed effective date are unnecessary and are not in the public interest as this final rule is merely codifying the removal of the name and function of the Committee from the list of standing FDA advisory committees in 21 CFR 14.100. The termination of this Committee is already effective.

Therefore, the Agency is amending § 14.100(c) as set forth in the regulatory text of the document.

List of Subjects in 21 CFR Part 14

Administrative practice and procedure, Advisory committee, Color additives, Drugs, Radiation protection.

Therefore, under the Federal Food, Drug, and Cosmetic Act and under authority delegated to the Commissioner of Food and Drugs, 21 CFR part 14 is amended as follows:

PART 14—PUBLIC HEARING BEFORE A PUBLIC ADVISORY COMMITTEE

1. The authority citation for 21 CFR part 14 continues to read as follows:

Authority: 5 U.S.C. 1001 et seq.; 15 U.S.C. 1451-1461; 21 U.S.C. 41-50, 141-149, 321-394, 467f, 679, 821, 1034; 28 U.S.C. 2112; 42 U.S.C. 201, 262, 263b, 264, 284m, 284m-1; Pub. L. 107-109, 115 Stat. 1419.

§ 14.100 [Amended]

2. Section 14.100 is amended by removing paragraph (c)(3) and redesignating paragraphs (c)(4) through (18) as (c)(3) through (17).

Grace R. Graham,
Deputy Commissioner for Policy, Legislation, and International Affairs.

[FR Doc. 2025-16629 Filed 8-28-25; 8:45 am]

BILLING CODE 4164-01-P